DEPARTMENT OF THE INTERIOR

Bureau of Land Management

[NV-060-1990-EX]

Notice of Intent To Prepare a Supplemental Environmental Impact Statement (SEIS) To Analyze Homestake Mining Company's Proposed Modification to the Plan of Operations for Expansion of Its Ruby Hill Mine, Eureka County, NV

AGENCY: Bureau of Land Management, Interior.

ACTION: Notice of Intent to Prepare a Supplemental Environmental Impact Statement.

SUMMARY: Pursuant to Section 102(2)(c) of the National Environmental Policy Act of 1969 (NEPA), 40 CFR 1500-1508 Council on Environmental Quality Regulations, and 43 CFR Subpart 3809, the Bureau of Land Management's Battle Mountain Field Office will be directing the preparation of a Supplemental Environmental Impact Statement (SEIS) to analyze a proposed expansion of an open-pit mine and associated facilities in Eureka County, Nevada. Expansion of the Ruby Hill Mine, specifically development of the East Archimedes deposit, was defined in the EIS for the existing mine as a reasonably foreseeable future action. The project will involve public and private lands. The SEIS will be prepared by a third-party contractor directed by the BLM.

The BLM invites comments on the scope of the analysis. The purpose of the public scoping meetings is to identify issues to be addressed in the SEIS and potentially viable alternatives that address these issues. BLM personnel will be present to explain the NEPA process, mining regulations, and other requirements for processing the proposed Plan of Operations Amendment and the associated SEIS.

DATES: This notice initiates the public scoping process. Comments on the scope of the SEIS can be submitted in writing to the address below and will be accepted throughout the writing of the Draft SEIS. Scoping meetings will be held in Eureka and in Battle Mountain, Nevada. All public meetings will be announced through the local news media, newsletters or flyers, and will be posted on the Battle Mountain BLM Web site, http://www.nv.blm.gov/bmountain, at least 15 days prior to each event. The minutes and list of attendees for each meeting will be available to the public and open for 30 days after the meeting to any participants who wish to clarify the views they expressed.

ADDRESSES: Written scoping comments should be sent to: Bureau of Land Management, Battle Mountain Field Office, 50 Bastian Rd., Battle Mountain, NV 89820, ATTN: Mary Craggett. Written comments may also be faxed to Mary Craggett at (775) 635-4034. Documents pertinent to this proposal as well as comments, including names and street addresses of respondents, may be examined at the Battle Mountain Field Office during regular business hours (7:30 a.m.-4:30 p.m. Monday through Friday, except holidays). Comments may be published as part of the SEIS.

Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety. BLM will not consider anonymous comments.

FOR FURTHER INFORMATION CONTACT: Mary Craggett, Project Manager, Battle Mountain Field Office, 50 Bastian Road, Battle Mountain, NV 89820 (775-635-4060.)

SUPPLEMENTARY INFORMATION: HMC has submitted a proposal to expand its existing Ruby Hill Mine located south of Highway 50, approximately 1 mile northwest of the town of Eureka, Nevada. The project (development of the East Archimedes deposit) would consist of extending the existing open pit, expansion of existing waste rock and heap leach facilities, construction of dewatering facilities, and the continued operation, reclamation, and closure of the existing Ruby Hill Mine, to include mine office and warehouse, truck shop, haul roads, ore stockpiles, access road, diversion ditches, power transmission lines, water wells and pipelines, process solution transmission pipelines and a landfill. The project area is unchanged from the existing Ruby Hill Mine approved Plan of Operations (N64-95-001P) and related Environmental Impact Statement (NV64-EIS96-33), and is within portions of Township 19 North, Range 53 East, MDM, sections 2 to 11, inclusive, 14 to 18, inclusive, and 20 to 23 inclusive and portions of Township 20 North, Range 53 East, sections 28 and 31 to 35, inclusive. Under the proposed action, an estimated additional disturbance of 665 acres would occur. This proposed disturbance includes approximately 484 acres of private land owned by HMC, and 181 acres of BLM-administered public land. Project access will continue to be via an improved gravel road from U.S. Highway 50.

Potentially significant direct, indirect, residual, and cumulative impacts from the proposed action will be analyzed in the SEIS. Significant issues to be addressed in the SEIS include dewatering activities and visual impacts. Additional issues to be addressed may arise during the scoping process. Federal, State, and local agencies, and other individuals or organizations that may be interested in or affected by the BLM's decision on this plan of operations amendment are invited to participate in the scoping process. The life of the project under this modification would increase approximately six years over the timeline outlined in the Ruby Hill Project Final EIS

Dated: February 3, 2004.
Gerald M. Smith,
Field Manager, Battle Mountain Field Office.

[FR Doc. 04-7465 Filed 4-1-04; 8:45 am]

BILLING CODE 4310-HC-P